DEPARTMENT OF HOMELAND SECURITY

Federal Emergency Management Agency

[Internal Agency Docket No. FEMA-3389-EM; Docket ID FEMA-2017-0001]

Alabama; Emergency and Related Determinations

AGENCY: Federal Emergency Management Agency, DHS.

ACTION: Notice.

SUMMARY: This notice corrects the previous Federal Register notice of an emergency declaration for the State of Alabama (FEMA-3389-EM), dated September 11, 2017, and related determinations.

DATES: This correction was issued on October 11, 2017.

FOR FURTHER INFORMATION CONTACT: Dean Webster, Office of Response and Recovery, Federal Emergency Management Agency, 500 C Street SW., Washington, DC 20472, (202) 646-2833.

SUPPLEMENTARY INFORMATION: FEMA previously published a Federal Register notice on October 2, 2017 at 82 FR 45875 providing notice of a Presidential declaration of an emergency for the State of Alabama. That notice incorrectly stated that all 67 counties in the State of Alabama and the Poarch Band of Creek Indians had been designated as eligible for debris removal and emergency protective measures (Categories A and B), including direct federal assistance, under the Public Assistance program. The 67 counties in the State of Alabama and the Poarch Band of Creek Indians are only designated as eligible for emergency protective measures (Category B), including direct federal assistance, under the Public Assistance program.

Brock Long,
Administrator, Federal Emergency Management Agency.

[FR Doc. 2017-22747 Filed 10-19-17; 8:45 am]

BILLING CODE 9111-23-P